DEPARTMENT OF HOUSING AND URBAN DEVELOPMENT

[Docket No. FR-6036-N-01]

Housing Trust Fund Federal Register; Allocation Notice

AGENCY: Office of the Assistant Secretary for Community Planning and Development, HUD.

ACTION: Notice of Fiscal Year 2017 Funding Awards.

SUMMARY: The Housing and Economic Recovery Act of 2008 (HERA) established the Housing Trust Fund (HTF) to be administered by HUD. Pursuant to the Federal Housing Enterprises Financial Security and Soundness Act of 1992 (the Act), as amended by HERA, Division A, eligible HTF grantees are the 50 states, the District of Columbia, the Commonwealth of Puerto Rico, American Samoa, Guam, the Commonwealth of Northern Mariana Islands, and the United States Virgin Islands. In accordance with Section 1338(c)(4)(A) of the Act, this notice announces the formula allocation amount for each eligible HTF grantee.

FOR FURTHER INFORMATION CONTACT: Virginia Sardone, Director, Office of Affordable Housing Programs, Room 7164, Department of Housing and Urban Development, 451 Seventh Street SW., Washington, DC 20410-7000; telephone (202) 708-2684. (This is not a toll-free number.) A telecommunications device for hearing- and speech-impaired persons (TTY) is available at 800-877-8339 (Federal Relay Service).

SUPPLEMENTARY INFORMATION: Section 1131 of HERA Division A amended the Act to add a new section 1337 entitled “Affordable Housing Allocations” and a new section 1338 entitled “Housing Trust Fund.” HUD's implementing regulations are codified at 24 CFR part 93. Congress authorized the HTF with the stated purpose of: (1) Increasing and preserving the supply of rental housing for extremely low-income families with incomes between 0 and 30 percent of area median income and very low-income families with incomes between 30 and 50 percent of area median income, including homeless families, and (2) increasing homeownership for extremely low-income and very low-income families. Section 1337 of the Act provides for the HTF (and other programs) to be funded with an affordable housing set-aside by Fannie Mae and Freddie Mac. The total set-aside amount is equal to 4.2 basis points (.042 percent) of Fannie Mae and Freddie Mac's new mortgage purchases, a portion of which is for the HTF. Section 1338 of the Act directs HUD to establish, through regulation, the formula for distribution of amounts made available for the HTF. The statute specifies the factors to be used for the formula and priority for certain factors. The factors and methodology HUD uses to allocate HTF funds among eligible grantees are established in the HTF regulation. The funding announced for Fiscal Year 2017 through this notice is $219,168,373.94. This amount includes $12,702,747 of unobligated Fiscal Year 2016 HTF funds that will be reallocated by formula, which are comprised of $37,298 from American Samoa, Guam, and the Commonwealth of Northern Mariana Islands, three Insular Areas that declined their Fiscal Year 2016 allocations and $12,665,449 of Sequestered Fiscal Year 2016 funds. HUD may add any amounts that may become available to these FY 2017 HTF allocation amounts. Appendix A to this notice provides the names of the grantees and the amounts of the awards.

Dated: June 20, 2017.
Clifford Taffet,
General Deputy Assistant Secretary for Community Planning and Development.

Appendix A:

FY 2017 Housing Trust Fund Allocation Amounts

Grantee | FY 2017 Allocation
Alabama | $3,000,000
Alaska | 3,000,000
Arizona | 3,317,255
Arkansas | 3,000,000
California | 23,228,114.94
Colorado | 3,154,331
Connecticut | 3,000,000
Delaware | 3,000,000
District of Columbia | 3,000,000
Florida | 7,658,948
Georgia | 4,427,950
Hawaii | 3,000,000
Idaho | 3,000,000
Illinois | 7,163,487
Indiana | 3,367,317
Iowa | 3,000,000
Kansas | 3,000,000
Kentucky | 3,000,000
Louisiana | 3,000,000
Maine | 3,000,000
Maryland | 3,071,109
Massachusetts | 4,604,660
Michigan | 4,851,072
Minnesota | 3,118,428
Mississippi | 3,000,000
Missouri | 3,357,775
Montana | 3,000,000
Nebraska | 3,000,000
Nevada | 3,000,000
New Hampshire | 3,000,000
New Jersey | 5,599,220
New Mexico | 3,000,000
New York | 14,790,240
North Carolina | 4,433,361
North Dakota | 3,000,000
Ohio | 5,511,230
Oklahoma | 3,000,000
Oregon | 3,143,231
Pennsylvania | 5,863,425
Rhode Island | 3,000,000
South Carolina | 3,000,000-
South Dakota | 3,000,000
Tennessee | 3,160,279
Texas | 8,858,738
Utah | 3,000,000
Vermont | 3,000,000
Virginia | 3,821,341
Washington | 4,129,304
West Virginia | 3,000,000
Wisconsin | 3,481,414
Wyoming | 3,000,000
American Samoa | 7,771
Guam | 62,855
N. Mariana Islands | 34,603
Puerto Rico | 883,160
Virgin Islands | 67,755
Total | 219,168,373.94

[FR Doc. 2017-13180 Filed 6-22-17; 8:45 am]

BILLING CODE 4210-67-P